FEDERAL ELECTION COMMISSION

Sunshine Act Notices

Previously Announced Date and Time: Tuesday, December 2, 2003, 10 a.m. meeting closed to the public. This Meeting was cancelled.

Previously Announced Date and Time: Thursday, December 4, 2003, 10 a.m. meeting open to the public.

The following item was added to the agenda: Final Rules and Explanation and Justification to Travel on Behalf of Candidates and Political Committees.

The following item was withdrawn: Draft Advisory Opinion 2003-31, Senator Mark Dayton by counsel, Marc E. Elias.

Previously Announced Date and Time: Tuesday, December 16, 2003, 10 a.m. meeting closed to the public. This Meeting has been rescheduled for Monday, December 15, 2003, at 10 a.m.

Date and Time: Tuesday, December 9, 2003, at 10 a.m.

Place: 999 E Street, NW., Washington, DC.

Status: This Meeting will be closed to the public.

Items to be Discussed:

Compliance matters pursuant to 2 U.S.C. 437g.

Audits conducted pursuant to 2 U.S.C. 437g, § 437(b), and title 26, U.S.C.

Matters concerning participation in civil actions or proceedings or arbitration.

Internal personnel rules and procedures or matters affecting a particular employee.

Date and Time: Thursday, December 11, 2003, at 10 a.m.

Place: 999 E Street, NW., Washington, DC (Ninth Floor).

Status: This Meeting will be open to the public.

Items to be Discussed:

Correction and Approval of Minutes.

Enforcement Disclosure Initiatives.

Demonstration of Enforcement Query System.

Policy Statement on Making Closed MURs Public.

Eligibility Report-John R. Edwards/Edwards for President.

Draft Advisory Opinion 2003-31: Senator Mark Dayton by counsel, Marc E. Elias and Brian T. Svoboda.

Draft Advisory Opinion 2003-32: Ms. Inez Tenenbaum by counsel, Marc E. Elias.

Draft Advisory Opinion 2003-33: Anheuser-Busch Companies, Inc., by counsel, Kenneth A. Gross and Ki P. Hong.

Draft Advisory Opinion 2003-35: Gephardt for President, Inc. by Steven G. Murphy, Campaign Manager.

Routine Administrative Matters.

FOR FURTHER INFORMATION CONTACT: Mr. Ron Harris, Press Officer, Telephone: (202) 694-1220.

Mary W. Dove,
Secretary of the Commission.

[FR Doc. 03-30299 Filed 12-2-03; 2:21 pm]

BILLING CODE 6715-01-M